DEPARTMENT OF ENERGY

National Nuclear Security Administration

Proposed Subsequent Arrangement

AGENCY: National Nuclear Security Administration, Department of Energy.

ACTION: Proposed subsequent arrangement.

SUMMARY: This document is being issued under the authority of the Atomic Energy Act of 1954, as amended. The Department of Energy is providing notice of a proposed subsequent arrangement under the Agreement for Cooperation between the Government of the United States of America and the Government of Japan Concerning Peaceful Uses of Nuclear Energy.

DATES: This subsequent arrangement will take effect no sooner than July 23, 2020.

FOR FURTHER INFORMATION CONTACT: Mr. Sean Oehlbert, Office of Nonproliferation and Arms Control, National Nuclear Security Administration, Department of Energy. Telephone: 202-586-3806 or email: sean.oehlbert@nnsa.doe.gov.

SUPPLEMENTARY INFORMATION: This proposed subsequent arrangement concerns the retransfer of 147 grams of U.S.-origin highly enriched uranium, containing 130 grams of the isotope U-235 (88 percent enrichment) in various forms originally exported under numerous U.S. Nuclear Regulatory Commission licenses, from Toshiba Corporation, in Tokyo Japan; Toshiba Energy Systems & Solutions Corporation in Kanagawa, Japan; and, Westinghouse Electric Japan Ltd. (WEJ), Tokyo, Japan, to Springfields Fuel Limited (SFL) in Lancashire, United Kingdom (UK), and National Nuclear Laboratory (NNL) in Lancashire, UK, for recovery treatment and disposal. Upon transfer to the UK, the proposed 147 grams uranium containing 130 grams of the isotope U-235 (88 percent enrichment) will be subject to the Agreement for Cooperation in the Peaceful Uses of Nuclear Energy between the United States of America and the European Atomic Energy Community (Euratom).

Pursuant to the authority in section 131 a. of the Atomic Energy Act of 1954, as delegated, I have determined that this proposed subsequent arrangement concerning the retransfer of nuclear material of U.S. origin will not be inimical to the common defense and security of the United States of America.

Signing Authority

This document of the Department of Energy was signed on July 2, 2020, by Brent K. Park, Deputy Administrator for Defense Nuclear Nonproliferation, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 2, 2020.
Treena V. Garrett,
Federal Register Liaison Officer, U.S. Department of Energy.

[FR Doc. 2020-14722 Filed 7-7-20; 8:45 am]

BILLING CODE 6450-01-P